DEPARTMENT OF ENERGY

Request for Information: Geothermal Workforce Education Development and Retention

AGENCY: Office of Energy Efficiency and Renewable Energy, Department of Energy (DOE).

ACTION: Notice of Request for Information (DE-PS36-09GO39004).

SUMMARY: The Department of Energy (DOE) gives notice of a Request for Information (RFI), seeking innovative ways for industry and educators to work together in addressing important challenges in the geothermal program; under authorities such as 42 U.S.C. Section 7381(b) of the Department of Energy Education Enhancement Act, and the Energy Policy Act of 2005, Section 931(a)(2)(C). The Federal government and industry must address the growing inadequacy of workforce competencies due to the small size of the existing geothermal industry and the competition for human resources, as the geothermal industry competes with the oil and gas industry for qualified personnel. The limited capability for meeting a critical need in qualified personnel is compounded by the current lack of formal university degree programs. This RFI seeks input regarding future GTP funding, potential initiatives within the industry and in the classroom, and with DOE administrative efforts.

DATES: Written comments must be received by January 30, 2009.

ADDRESSES: Send all responses to this RFI to RFI-09GO39004@go.doe.gov in Microsoft Word format.

FOR FURTHER INFORMATION CONTACT: Questions regarding the content of the RFI must be submitted to the following e-mail address: RFI-09GO39004@go.doe.gov.

SUPPLEMENTARY INFORMATION: The U.S. Department of Energy's Geothermal Technology Program (GTP) is working with industry and educators to address important challenges in the geothermal program under authorities such as 42 U.S.C. Section 7381(b) of the Department of Energy Education Enhancement Act, and the Energy Policy Act of 2005, Section 931(a)(2)(C). Glitnir Geothermal Research's 2008 United States Geothermal Energy Market Report asserts that human capital will be a bottleneck to advancing geothermal energy technology and could delay development of Enhanced Geothermal Systems (EGS) technology.

The limited capability for meeting this need is further illustrated by the current lack of formal university degree programs. The Federal government and industry, together, must address the growing inadequacy of workforce competencies due to the small size of the existing geothermal industry and the competition for human resources, as the geothermal industry competes with the oil and gas industry for qualified personnel.

Future GTP funding and administrative efforts may focus on the following goals:

• Institute program activities affiliated with the development and retention of the geothermal-specific competencies.

• Develop teaming opportunities with universities and industry to invest in geothermal education programs.

• Co-sponsor student design competitions with industry focused on critical technology challenges for EGS.

Potential initiatives may include, but are not limited to:

• EGS curriculum—Competitively fund institutions of higher education to develop geothermal educational curricula and degree programs/minors/specializations.

• Educational scholarship program—Support student enrollment in programs with geothermal development and curricula for education, research and/or internships. These programs may apply to undergraduates, graduate students, and post-docs.

• Vocational training—Develop the next generation of skilled workers for widespread geothermal facility construction and operation.

• University cooperative education and professional internship program.

• University student competition.

• Allow students to solve real-life problems and implement solutions in the field.

• Co-sponsor with industry student design competitions focused on critical technology challenges.

• Co-sponsor student paper challenges to showcase student research in a public forum and make connections to industry.

• K-12 education modules—Provide early exposure to and curricula for geothermal energy and technology. This may include supplementing the Energy Efficiency & Renewable Energy (EERE) Education Web site.

• Pilot education program.

• Day programs/workshops at universities.

• Innovative education models for post-undergraduate education.

Issued in Golden, CO on November 26, 2008.
James P. Damm,
Acting Assistant Manager, Office of Acquisition and Financial Assistance, Golden Field Office, U.S. Department of Energy.

[FR Doc. E8-29087 Filed 12-8-08; 8:45 am]

BILLING CODE 6450-01-P